DEPARTMENT OF HOMELAND SECURITY

Office for Civil Rights and Civil Liberties; Interagency Coordinating Council on Individuals With Disabilities in Emergency Preparedness Quarterly Meeting

AGENCY: Office for Civil Rights and Civil Liberties, DHS.

ACTION: Notice of meeting.

SUMMARY: This provides notice of a forthcoming meeting of the Interagency Coordinating Council on Emergency Preparedness and Individuals With Disabilities (ICC). Notice of this meeting is intended to inform members of the general public of their opportunity to attend the meeting. The ICC will engage in discussions related to the second anniversary of Executive Order 13347 and review accomplishments and future goals of the ICC in implementation of this Executive Order. The meeting will be open and accessible to the general public.

DATES: Friday, July 14, 2006, from 10 a.m.-Noon.

ADDRESSES: Federal Communications Commission; 445 12th Street, SW., Washington, DC 20554. The meeting will be held in the Commission Meeting Room, Room #TW-C305.

FOR FURTHER INFORMATION CONTACT: Megan Hogan, 202-357-8330.

SUPPLEMENTARY INFORMATION: The ICC was established under Executive Order 13347, Individuals With Disabilities in Emergency Preparedness signed by President Bush on July 22, 2004. This Executive Order calls on the Federal Government to:

(a) Consider during emergency planning the unique needs of agency employees with disabilities and individuals with disabilities whom the agency serves;

(b) Encourage consideration of the unique needs of employees and individuals with disabilities served by State, local, and tribal governments, private organizations and individuals in emergency preparedness planning; including the provision of technical assistance, as appropriate; and

(c) Facilitate cooperation among Federal, State, local, and tribal governments, private organizations and individuals in the implementation of emergency preparedness plans related to individuals with disabilities.

The Executive Order established the ICC to coordinate activities that ensure the Federal Government appropriately supports safety and security for individuals with disabilities in all hazard situations. The ICC is chaired by the Secretary of Department of Homeland Security.

The meeting site is fully accessible to people using wheelchairs or other mobility aids. Sign language interpreters, open captioning, and assistive listening devices will be provided on site. Request other reasonable accommodations for people with disabilities as early as possible. Last minute requests will be accepted, but may be impossible to fill. Send an e-mail to fcc504@fcc.gov or call the Consumer & Governmental Affairs Bureau at 202-418-0530 (voice), 202-418-0432 (TTY). Audio/Video coverage of the meeting will be broadcast live with open captioning over the Internet from the FCC's Audio/Video Events Web page at http://www.fcc.gov/realaudio.

Daniel Sutherland,
Officer for Civil Rights and Civil Liberties.

[FR Doc. E6-9299 Filed 6-13-06; 8:45 am]

BILLING CODE 4410-10-P